DEPARTMENT OF COMMERCE

Foreign-Trade Zones Board

[S-27-2020]

Foreign-Trade Zone 107—Polk County, Iowa; Application for Subzone; Warehouse Specialists, LLC; Council Bluffs, Iowa

An application has been submitted to the Foreign-Trade Zones Board (the Board) by the Iowa Foreign Trade Zone Corporation, grantee of FTZ 107, requesting subzone status for the facility of Warehouse Specialists, LLC, located in Council Bluffs, Iowa. The application was submitted pursuant to the provisions of the Foreign-Trade Zones Act, as amended (19 U.S.C. 81a-81u), and the regulations of the Board (15 CFR part 400). It was formally docketed on February 7, 2020.

The proposed subzone (48.04 acres) is located at 19301 Bunge Avenue (Highway H10), Council Bluffs, Iowa. No authorization for production activity has been requested at this time. The proposed subzone would be subject to the existing activation limit of FTZ 107.

In accordance with the Board's regulations, Elizabeth Whiteman of the FTZ Staff is designated examiner to review the application and make recommendations to the Executive Secretary.

Public comment is invited from interested parties. Submissions shall be addressed to the Board's Executive Secretary and sent to: ftz@trade.gov. The closing period for their receipt is March 23, 2020. Rebuttal comments in response to material submitted during the foregoing period may be submitted during the subsequent 15-day period to April 7, 2020.

A copy of the application will be available for public inspection in the “Reading Room” section of the Board's website, which is accessible via www.trade.gov/ftz.

For further information, contact Elizabeth Whiteman at Elizabeth.Whiteman@trade.gov or (202) 482-0473.

Dated: February 7, 2020.
Andrew McGilvray,
Executive Secretary.

[FR Doc. 2020-02787 Filed 2-11-20; 8:45 am]

BILLING CODE 3510-DS-P